OFFICE OF MANAGEMENT AND BUDGET

2003 List of Designated Federal Entities and Federal Entities

AGENCY: Office of Management and Budget.

ACTION: Notice.

SUMMARY: This notice provides a list of Designated Federal Entities and Federal Entities, as required by the Inspector General Act of 1978 (IG Act), as subsequently amended.

FOR FURTHER INFORMATION CONTACT: Office of Federal Financial Management, Office of Management and Budget, at 202-395-3993.

SUPPLEMENTARY INFORMATION: This notice provides a copy of the 2003 List of Designated Federal Entities and Federal Entities, which the Office of Management and Budget (OMB) is required to publish annually under the IG Act. This list is also posted on the OMB Web site at http://www.whitehouse.gov/financial.

The list is divided into two groups: Designated Federal Entities and Federal Entities. The Designated Federal Entities are required to establish and maintain Offices of Inspector General. The Designated Federal Entities are listed in the IG Act, except that those agencies which have ceased to exist or have changed status have been deleted from the list.

Federal Entities are required to report annually to each House of the Congress and OMB on audit and investigative activities in their organizations. Federal Entities are defined as any Government corporation (within the meaning of section 103(1) of title 5, United States Code), any Government controlled corporation (within the meaning of section 103(2) of such title), or any other entity in the Executive Branch of government, or any independent regulatory agency” other than the Executive Office of the President and agencies with statutory Inspectors General. For 2003, there is one addition to the Designated Federal Entities list (Election Assistance Commission) and two deletions to the Federal Entities list (the Export-Import Bank now has a Inspector General nominated by the President and confirmed by the Senate, and the National Commission on Libraries and Information Science was not funded in 2003), for a total of three changes from the 2002 list.

The 2003 List of Designated Federal Entities and Federal Entities was prepared in consultation with the U.S. General Accounting Office.

Linda M. Springer,
Controller, Office of Federal Financial Management.

Herein follows the text of the 2003 List of Designated Federal Entities and Federal Entities:

2003 List of Designated Federal Entities and Federal Entities

The Inspector General Act of 1978, as subsequently amended, requires OMB to publish a list of “Designated Federal Entities” and “Federal Entities” and the heads of such entities. Designated Federal Entities were required to establish Offices of Inspector General. Federal Entities are required to report annually to each House of the Congress and the Office of Management and Budget on audit and investigative activities in their organizations.

Designated Federal Entities and Entity Heads

1. Amtrak—President

2. Appalachian Regional Commission—Federal Co-Chairperson

3. The Board of Governors, Federal Reserve System—Chairperson

4. Commodity Futures Trading Commission—Chairperson

5. Consumer Product Safety Commission—Chairperson

6. Corporation for Public Broadcasting—Board of Directors

7. Denali Commission—Chairperson

8. Election Administration Commission—Chairperson

9. Equal Employment Opportunity Commission—Chairperson

10. Farm Credit Administration—Chairperson

11. Federal Communications Commission—Chairperson

12. Federal Election Commission—Chairperson

13. Federal Housing Finance Board—Chairperson

14. Federal Labor Relations Authority—Chairperson

15. Federal Maritime Commission—Chairperson

16. Federal Trade Commission—Chairperson

17. Legal Services Corporation—Board of Directors

18. National Archives and Records Administration—Archivist of the United States

19. National Credit Union Administration—Chairperson

20. National Endowment for the Arts—Chairperson

21. National Endowment for the Humanities—Chairperson

22. National Labor Relations Board—Chairperson

23. National Science Foundation—National Science Board

24. Peace Corps—Director

25. Pension Benefit Guaranty Corporation—Chairperson

26. Securities and Exchange Commission—Chairperson

27. Smithsonian Institution—Secretary

28. United States International Trade Commission—Chairperson

29. United States Postal Service—Governors of the Postal Service

Federal Entities and Entity Heads

1. Advisory Council on Historic Preservation—Chairperson

2. African Development Foundation—Chairperson

3. American Battle Monuments Commission—Chairperson

4. Architectural and Transportation Barriers Compliance Board—Chairperson

5. Armed Forces Retirement Home—Board of Directors

6. Barry Goldwater Scholarship and Excellence in Education Foundation—Chairperson

7. Chemical Safety and Hazard Investigation Board—Chairperson

8. Christopher Columbus Fellowship Foundation—Chairperson

9. Commission for the Preservation of America's Heritage Abroad—Chairperson

10. Commission of Fine Arts—Chairperson

11. Commission on Civil Rights—Chairperson

12. Commission on Ocean Policy—Chairperson

13. Committee for Purchase from People Who Are Blind or Severely Disabled—Chairperson

14. Court of Appeals for Veterans Claims—Chief Judge

15. Defense Nuclear Facilities Safety Board—Chairperson

16. Delta Regional Authority—Federal Co-Chairperson

17. Farm Credit System Financial Assistance Corporation—Chairperson

18. Farm Credit System Insurance Corporation—Chairperson

19. Federal Financial Institutions Examination Council Appraisal Subcommittee—Chairperson

20. Federal Mediation and Conciliation Service—Director

21. Federal Mine Safety and Health Review Commission—Chairperson

22. Federal Retirement Thrift Investment Board—Executive Director

23. Harry S. Truman Scholarship Foundation—Chairperson

24. Institute of American Indian and Alaska Native Culture and Arts Development—Chairperson

25. Institute of Museum and Library Services—Director

26. Inter-American Foundation—Chairperson

27. James Madison Memorial Fellowship Foundation—Chairperson

28. Japan-U.S. Friendship Commission—Chairperson

29. Marine Mammal Commission—Chairperson

30. Merit Systems Protection Board—Chairperson

31. Morris K. Udall Scholarship and Excellence in National Environmental Policy Foundation—Chairperson

32. National Capital Planning Commission—Chairperson

33. National Council on Disability—Chairperson

34. National Mediation Board—Chairperson

35. National Transportation Safety Board—Chairperson

36. National Veterans Business Development Corporation—Chairperson

37. Neighborhood Reinvestment Corporation—Chairperson

38. Nuclear Waste Technical Review Board—Chairperson

39. Occupational Safety and Health Review Commission—Chairperson

40. Office of Government Ethics—Director

41. Office of Navajo and Hopi Indian Relocation—Chairperson

42. Office of Special Counsel—Special Counsel

43. Offices of Independent Counsel—Independent Counsels

44. Overseas Private Investment Corporation—Board of Directors

45. Pacific Charter Commission—Chairperson

46. Postal Rate Commission—Chairperson

47. Presidio Trust—Chairperson

48. Selective Service System—Director

49. Smithsonian Institution/John F. Kennedy Center for the Performing Arts—Chairperson

50. Smithsonian Institution/National Gallery of Art—President

51. Smithsonian Institution/Woodrow Wilson International Center for Scholars—Director

52. Trade and Development Agency—Director

53. U.S. Holocaust Memorial Museum—Chairperson

54. U.S. Institute of Peace—Chairperson

55. Vietnam Education Foundation—Chairperson

[FR Doc. 03-14738 Filed 6-10-03; 8:45 am]

BILLING CODE 3110-01-P